DEPARTMENT OF EDUCATION

[Docket No.: ED-2023-SCC-0096]

Agency Information Collection Activities; Submission to the Office of Management and Budget for Review and approval; Comment Request; Full-Service Community Schools Annual Performance Report

AGENCY: Office of Elementary and Secondary Education (OESE), Department of Education (ED).

ACTION: Notice.

SUMMARY: In accordance with the Paperwork Reduction Act (PRA) of 1995, the Department is proposing a new information collection request (ICR).

DATES: Interested persons are invited to submit comments on or before November 20, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Jane Hodgdon, 202-245-6057.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Full-Service Community Schools Annual Performance Report.

OMB Control Number: 1810-NEW.

Type of Review: A new ICR.

Respondents/Affected Public: State, Local, and Tribal Governments.

Total Estimated Number of Annual Responses: 100.

Total Estimated Number of Annual Burden Hours: 900.

Abstract: The collection of this information is part of the government-wide effort to improve the performance and accountability of all federal programs, under 34 CFR 75.210, the Uniform Guidance, and the Education Department General Administrative Regulations (EDGAR). The U.S. Department of Education (ED) developed performance measures at every program level to quantify and report program progress required by the Elementary and Secondary Education Act of 1965 (ESEA), as amended. Under the Uniform Guidance and EDGAR, recipients of federal awards are required to submit performance and financial expenditure information. The program-level performance measure (established under Section 4625(4)(C) of the Elementary and Secondary Education Act of 1965, as amended), the 13 additional program indicators (established through a Notice of Final Priorities, Requirements, Definitions, and Selection Criteria (NFP) published in the Federal Register on July 13, 2022 87 FR 41675)), and budget information for the Full-Service Community Schools (FSCS) Program are reported in the Annual Performance Report (APR). The APR is required under 2 CFR 200.328 and 34 CFR 75.118 and 75.590. It provides data on the status of funded projects that correspond to the scope and objectives established in the approved applications and any amendments. To ensure that accurate and reliable data are reported to Congress on program implementation and performance outcomes, the FSCS APR collects data from grantees in a consistent format to calculate these data in the aggregate.

Dated: October 17, 2023.
Kun Mullan,
PRA Coordinator, Strategic Collections and Clearance, Governance and Strategy Division, Office of Chief Data Officer, Office of Planning, Evaluation and Policy Development.

[FR Doc. 2023-23271 Filed 10-19-23; 8:45 am]

BILLING CODE 4000-01-P